EXPORT-IMPORT BANK

[Public Notice: 2025-3124]

Agency Information Collection Activities: Submission to the Office of Management and Budget for Review and Approval; Comment Request; EIB 18-04, Itemized Statement of Payments—Long-Term Guarantees and Direct Loans—U.S. Costs

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995.

DATES: Comments should be received on or before March 28, 2025 to be assured of consideration.

ADDRESSES: Comments may be submitted electronically on WWW.REGULATIONS.GOV (EIB 18-04) or by mail to Office of Information and Regulatory Affairs, 725 17th Street NW, Washington, DC 20038, Attn: OMB 3048-0056. The form can be viewed at: https://img.exim.gov/s3fs-public/pub/pending/EIB+18-04_itemized_statement_of_payments-us_costs_form_2025.xlsx.

FOR FURTHER INFORMATION CONTACT: To request additional information, please Donna Schneider, 202-565-3612.

SUPPLEMENTARY INFORMATION: This form is to be completed by EXIM borrowers as required under certain EXIM long-term guarantee and direct loan transactions in conjunction with a borrower's request for disbursement for U.S. goods and services. It is used to summarize disbursement documents submitted with a borrower's request and to calculate the requested financing amount. It will enable EXIM to identify the specific details of the amount of disbursement requested for approval to ensure that the financing request is complete and in compliance with EXIM's disbursement requirements. This form will be uploaded into an electronic disbursement portal.

Titles and Form Number: EIB 18-04, Itemized Statement of Payments—Long-term Guarantees and Direct Loans—U.S. Costs.

OMB Number: 3048-0056.

Type of Review: Regular.

Need and Use: The information collected will assist in determining compliance of disbursement requests for U.S. goods and services submitted to EXIM through an electronic disbursement portal under certain long-term guarantee and direct loan transactions.

Affected Public: This form affects EXIM borrowers involved in financing U.S. goods and services under certain long-term guarantee and direct loan transactions.

Annual Number of Respondents: 150.

Estimated Time per Respondent: 90 minutes.

Annual Burden Hours: 225 hours.

Frequency of Reporting or Use: As needed.

Dated: February 21, 2025.
Andrew Smith,
Records Officer.

[FR Doc. 2025-03099 Filed 2-25-25; 8:45 am]

BILLING CODE 6690-01-P